Proclamation 10410 of May 31, 2022

National Caribbean-American Heritage Month, 2022

By the President of the United States of America

A Proclamation

America's strength has always been rooted in our diversity. Since our Nation's founding, generation after generation of immigrants have helped build this country, and the prosperity and opportunity that draw so many immigrants to America would not be possible without the contributions and legacies of Caribbean Americans. Today, millions of Caribbean Americans strengthen our country through their vibrant cultures, traditions, languages, and values. In recognition of National Caribbean-American Heritage Month, we honor the immeasurable ways Caribbean Americans have added to our American dream.

This month, our Nation also celebrates the extraordinary leadership and achievements of Vice President Kamala Harris, the first Black American of Jamaican heritage to hold this high office. I am also honored to celebrate alongside brilliant and dedicated public servants of Caribbean heritage—including Secretary of Education Miguel Cardona, Secretary of Homeland Security Alejandro Mayorkas, and Domestic Policy Advisor Susan Rice.

Every day, we see the invaluable contributions Caribbean American communities have made to our country. Our Nation has seen the persistence and character of generations of Caribbean Americans who have fought for equity and equality despite continued discrimination and hardship. In addition, public servants like our Nation's first Supreme Court Justice of Puerto Rican descent, Sonia Sotomayor, and the late General Colin Powell, the son of Jamaican immigrants and the first Black Secretary of State, have made essential contributions to American society and blazed new trails in service to the American people. Caribbean American entrepreneurs, scientists, medical professionals, teachers, artists, police officers, athletes, and contributors in every field have also left a lasting impact on our society.

In spite of innumerable achievements and undeniable contributions, too many Caribbean Americans continue to face systemic barriers to success. Caribbean Americans have been impacted by systemic racism and disparities in opportunity. My Administration has taken a whole-of-government approach to advancing racial justice and equity in order to begin healing those wounds and strengthening opportunity for all. We will continue to use every tool at our disposal to ensure that every American—no matter who they are or where they come from—has equal access to the American dream.

During this National Caribbean-American Heritage Month, we honor the generations of Caribbean Americans who have built our Nation, shaped our progress, and strengthened our national character.

NOW, THEREFORE, I, JOSEPH R. BIDEN JR., President of the United States of America, by virtue of the authority vested in me by the Constitution and the laws of the United States, do hereby proclaim June 2022 as National Caribbean-American Heritage Month. I encourage all Americans to join in celebrating the history, culture, and achievements of Caribbean Americans with appropriate ceremonies and activities.

IN WITNESS WHEREOF, I have hereunto set my hand this thirty-first day of May, in the year of our Lord two thousand twenty-two, and of the Independence of the United States of America the two hundred and forty-sixth.

[FR Doc. 2022-12126

Filed 6-2-22; 8:45 am]

Billing code 3395-F2-P